ENVIRONMENTAL PROTECTION AGENCY

40 CFR Part 52

[EPA-R04-OAR-2019-0308; FRL-10404-02-R4]

Air Plan Approval; Tennessee; Second Period Regional Haze Plan

AGENCY: Environmental Protection Agency (EPA).

ACTION: Final rule.

SUMMARY: The Environmental Protection Agency (EPA) is approving a regional haze State Implementation Plan (SIP) revision submitted by Tennessee Department of Environmental Conservation (TDEC), dated February 23, 2022, (“Haze Plan” or “2022 Plan”), as satisfying applicable requirements under the Clean Air Act (CAA or Act) and EPA's Regional Haze Rule (RHR) for the regional haze program's second planning period. Tennessee's SIP submission addresses the requirement that states must periodically revise their long-term strategies (LTSs) for making reasonable progress toward the national goal of preventing any future, and remedying any existing, anthropogenic impairment of visibility, including regional haze, in mandatory Class I Federal areas (hereinafter referred to as “Class I areas”). The SIP submission also addresses other applicable requirements for the second planning period of the regional haze program. EPA is taking this action pursuant to sections 110 and 169A of the Act.

DATES: This rule is effective January 12, 2026.

ADDRESSES: EPA has established a docket for this action under Docket Identification No. EPA-R04-OAR-2019-0308. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Estelle Bae, Air Permitting Section, Air Planning and Implementation Branch, Air and Radiation Division, Region 4, U.S. Environmental Protection Agency, 61 Forsyth Street SW, Atlanta, Georgia 30303-8960. The telephone number is (404) 562-9143. Ms. Bae can also be reached via electronic mail at bae.estelle@epa.gov.

SUPPLEMENTARY INFORMATION:

I. Background

On February 23, 2022, TDEC submitted a revision to its SIP to address regional haze for the second planning period.¹ TDEC made this SIP submission to satisfy the requirements of the CAA's regional haze program pursuant to CAA sections 169A and 169B and 40 Code of Federal Regulations (CFR) 51.308. The 2022 Plan includes measures at Eastman Chemical Company (Eastman) that Tennessee identified as necessary for reasonable progress for the second planning period. These measures include the permanent shutdown of Boilers 18-20,² as well as a combined sulfur dioxide (SO2) emissions limit of 1,396 tons per year for Boilers 23 and 24 during any period of 12 consecutive months, along with associated monitoring, recordkeeping, and reporting, contained in Tennessee Operating Permit 079592. As discussed in further detail in the August 19, 2025, notice of proposed rulemaking (NPRM) (90 FR 40272), this notice of final rulemaking, and the accompanying Response to Comments document, EPA has determined that the Tennessee regional haze SIP submission for the second planning period meets the applicable statutory and regulatory requirements and is thus approving Tennessee's submission.

¹ The February 23, 2022, SIP submission, with exception of the supporting modeling files and Confidential Business Information, is included in the docket for this rulemaking.

² On June 6, 2025, TDEC informed EPA that Eastman completed the planned shutdown of Boilers 18, 19, and 20, on February 24, 2025, October 21, 2024, and May 20, 2025, respectively. These three boilers have been replaced with natural gas boilers. Based on information received from Tennessee, the three natural gas boilers have begun operation.

On February 9, 2023, Tennessee separately submitted a SIP revision regarding the SO2 attainment demonstration for Sullivan County, Tennessee, which provides source-specific SO2 emission limits for Eastman and associated compliance parameters for incorporation into Tennessee's SIP.³ This submittal is referred to throughout this Notice as the “2023 Plan.” On December 20, 2024, Tennessee submitted a letter to EPA asking the Agency to incorporate certain permit conditions from the 2023 Plan to generally strengthen Tennessee's SIP.

³ The February 9, 2023, SIP submission is included in the docket for this rulemaking.

In the August 19, 2025, NPRM, EPA proposed to approve Tennessee's Haze Plan as satisfying the regional haze requirements for the second planning period contained in the CAA and 40 CFR 51.308. EPA also proposed to incorporate into Tennessee's SIP, as SIP strengthening measures, portions of the 2023 Plan. EPA described its rationale for these proposed approvals in the NPRM. Comments on the NPRM were due on or before October 20, 2025.

II. Response to Comments

EPA's August 19, 2025, proposal provided a 60-day public comment period that ended on October 20, 2025. EPA received five sets of adverse comments during the comment period: one set of comments from the National Parks Conservation Association (NPCA), Sierra Club, the Coalition to Protect America's National Parks, and Tennessee Citizens for Wilderness Planning (hereinafter “Conservation Groups”); one set of comments from the Mid-Atlantic/Northeast Visibility Union (MANE-VU); one set of comments from Coalition to Protect America's National Parks, Elders Climate Coalition for Climate Action, NAACP Nashville Branch, National Parks Conservation Association, Sierra Club Tennessee Chapter, Tennessee Citizens for Wilderness Planning, Tennessee Interfaith Power and Light, and Third Act Tennessee; and sets of comments from two individuals. EPA has responded to these comments in the Response to Comments document included in the docket for this rulemaking. EPA also received one comment in support of EPA's proposed approval from the state of Tennessee, which is included in the docket.

III. Incorporation by Reference

In this document, EPA is finalizing regulatory text that includes incorporation by reference. In accordance with requirements of 1 CFR 51.5, and as discussed in Sections I and II of this preamble, EPA is finalizing the incorporation by reference into Tennessee's SIP of Operating Permit Number 079592 (State effective February 9, 2022) for Eastman. EPA is also finalizing the incorporation by reference into Tennessee's SIP of that portion of Condition 1 of Tennessee Operating Permit Number 080222 (State effective March 1, 2023) containing the 30-day rolling average SO2 emission limit of 1,248 pounds per hour (lb/hr) for Eastman Boilers 18 through 24, 30, and 31; all of Condition 2 of Tennessee Operating Permit Number 080222 (State effective March 1, 2023); that portion of Condition 3 of Tennessee Operating Permit Number 080222 (State effective March 1, 2023) containing the supporting monitoring, recordkeeping, and reporting requirements for the 1,248 lb/hr SO2 limit; and Attachment A to Tennessee Operating Permit Number 080222 (State effective March 1, 2023). EPA is further finalizing the incorporation by reference into Tennessee's SIP of Conditions E3-8 and E3-9 of Tennessee Operating Permit Number 576501 (State effective October 1, 2021), which include the 317 lb/hr and 293 lb/hr SO2 limits applicable to Boilers 30 and 31; Condition E3-20; and Attachment 3 to this permit. EPA has made, and will continue to make, these materials generally available through www.regulations.gov and at the EPA Region 4 Office (please contact the person identified in the For Further Information Contact section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.⁴

⁴ See 62 FR 27968 (May 22, 1997).

IV. Final Action

EPA is approving Tennessee's February 23, 2022, SIP revision as satisfying the regional haze requirements for the second planning period contained in 40 CFR 51.308(f). EPA is also incorporating into Tennessee's SIP, as SIP strengthening measures, those portions of Tennessee's February 9, 2023, SIP submission discussed above in Section III (entitled Incorporation by Reference). Thus, EPA is adopting into Tennessee's SIP the permit conditions identified in Section III above.

V. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by February 9, 2026. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Incorporation by reference, Nitrogen dioxide, Particulate matter, Sulfur oxides.

Dated: December 2, 2025.
Kevin McOmber,
Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart RR—Tennessee

2. In § 52.2220:

a. In paragraph (d), amend the table by adding three entries for “Eastman Chemical Company” at the end of the table; and

b. In paragraph (e), amend the table by adding an entry for “Regional Haze Plan—Second Planning Period” at the end of the table.

The additions read as follows:

§ 52.2220 Identification of plan.

* * * * *

(d) * * *

EPA-Approved Tennessee Source-Specific Requirements
Name of source | Permit No. | State effective date | EPA approval date | Explanation
* * * * * * *
Eastman Chemical Company | 079592 | 2/9/2022 | 12/11/2025, 90 FR [Insert Federal Register page where the document begins] |
Eastman Chemical Company | 080222 | 3/1/2023 | 12/11/2025, 90 FR [Insert Federal Register page where the document begins] | That portion of Condition 1 containing the 30-day rolling average 1,248 lb/hr SO2 emission limit for Boilers 18 through 24, 30, and 31; Condition 2; that portion of Condition 3 containing the monitoring, recordkeeping, and reporting requirements for the 1,248 lb/hr SO2 emission limit; and Attachment A.
Eastman Chemical Company | 576501 | 10/1/2021 | 12/11/2025, 90 FR [Insert Federal Register page where the document begins] | Condition E3-8 and E3-9 containing the SO2 emission limits for Boilers 30 and 31; Condition E3-20; and Attachment 3.

(e) * * *

EPA-Approved Tennessee Non-Regulatory Provisions
Name of non-regulatory SIP provision | Applicable geographic or nonattainment area | State effective date | EPA approval date | Explanation
* * * * * * *
Regional Haze Plan—Second Planning Period | Tennessee | 2/23/2022 | 12/11/2025, 90 FR [Insert Federal Register page where the document begins]

[FR Doc. 2025-22564 Filed 12-10-25; 8:45 am]

BILLING CODE 6560-50-P